DEPARTMENT OF COMMERCE

National Oceanic and Atmospheric Administration

50 CFR Part 654

[I.D. 031402C]

RIN 0648-AN10

Stone Crab Fishery of the Gulf of Mexico; Amendment 7

AGENCY: National Marine Fisheries Service (NMFS), National Oceanic and Atmospheric Administration (NOAA), Commerce.

ACTION: Notice of availability of Amendment 7 to the Fishery Management Plan for the Stone Crab Fishery for the Gulf of Mexico; request for comments.

SUMMARY: NMFS announces that the Gulf of Mexico Fishery Management Council (Council) has submitted Amendment 7 to the Fishery Management Plan for the Stone Crab Fishery of the Gulf of Mexico (FMP) for review, approval, and implementation by NMFS. Amendment 7 would establish a Federal trap limitation program for the commercial stone crab fishery in the exclusive economic zone (EEZ) off Florida's west coast, including the area off Monroe County, FL (i.e., the management area) that would complement the stone crab trap limitation program implemented by the Florida Fish and Wildlife Conservation Commission (FFWCC). In addition, Amendment 7 would revise the Protocol and Procedure for an Enhanced Cooperative Management System (Protocol) consistent with Florida's constitutional revisions that transferred authority for implementation of fishery-related rules from the Governor and Cabinet to the FFWCC. The intended effects are to establish a Federal program that would complement and enhance the effectiveness of the FFWCC's trap limitation program and, thereby, help to reduce overcapitalization in the stone crab fishery.

DATES: Written comments must be received on or before June 17, 2002.

ADDRESSES: Written comments must be sent to Mark Godcharles, Southeast Regional Office, NMFS, 9721 Executive Center Drive N., St. Petersburg, FL 33702. Comments also may be sent via fax to 727-570-5583. Comments will not be accepted if submitted via e-mail or Internet.

Requests for copies of Amendment 7, which includes a regulatory impact review and an environmental assessment should be sent to the Gulf of Mexico Fishery Management Council, 3018 U.S. Highway 301 North, Suite 1000, Tampa, Florida 33619-2266; phone: 813-228-2815; fax: 813-225-7015; e-mail: gulfcouncil@gulfcouncil.org.

FOR FURTHER INFORMATION CONTACT: Mark Godcharles 727-570-5305, fax 727-570-5583, e-mail Mark.Godcharles@noaa.gov.

SUPPLEMENTARY INFORMATION: The Magnuson-Stevens Fishery Conservation and Management Act (Magnuson-Stevens Act) requires each Regional Fishery Management Council to submit any fishery management plan or amendment to NMFS for review and approval, disapproval, or partial approval. The Magnuson-Stevens Act also requires that NMFS, upon receiving an amendment, immediately publish a document in the Federal Register stating that the amendment is available for public review and comment.

Fishery information available since the early 1980′s indicates that the stone crab fishery, in terms of area fished, and numbers of participants and traps, has expanded to a level where the fishery has more participants and traps than necessary to harvest optimum yield. This excessive growth has reduced efficiency in the fishery and failed to increase annual harvest since the early 1990′s. Since moratoriums were first implemented (60 FR 13918, March 15, 1995; 63 FR 44595, August 20, 1998), neither Florida nor NMFS has issued new permits for this fishery. On June 26, 2000, Florida adopted its trap certificate program which is designed to reduce the number of traps in the stone crab fishery to an optimal level over about a 30-year period. The FFWCC expects to implement this program by October 1, 2002.

Amendment 7 represents a continuation of cooperative State/Federal efforts to constrain overcapitalization in the stone crab fishery. The state/federal cooperative approach to managing the Florida stone crab fishery was initiated with the development and implementation of the FMP (final rule: 44 FR 53519, September 14, 1979). The fourth management objective in the FMP specified that regulations be developed with the ideal of promoting uniform and consistent management of the fishery in state and federal of the Gulf of Mexico waters off west Florida. In Amendment 7, the Council has proposed the following nine FMP changes to align Federal management of the stone crab fishery with the FFWCC trap reduction program: (1) Recognize, but not require, Florida’s stone crab licenses and trap tags for vessels operating in the management area; (2) establish a Federal program to issue non-transferable (to other persons) vessel permits, trap certificates, and trap tags for EEZ use only; (3) provide opportunity to apply for the proposed Federal vessel permit to those who could meet the qualifying criteria but could not or chose not to obtain the stone crab vessel license or tags issued by the FFWCC; (4) allow participants up to 90 days following the effective date of the final rule implementing Amendment 7 to apply for Federal permits and tags; (5) determine the number of Federal trap tags to be issued to qualifying persons by dividing his/her highest seasonal landings of stone crab claws during one of three fishing seasons (1995/96, 1996/97, or 1997/1998) by 5 lb (2.27 kg); (6) charge a fee for the issuance of Federal trap tags and vessel permits and their annual renewal; (7) establish a Federal appeals process for those denied a Federal permit; (8) revise the Protocol to reflect revisions to Florida’s Constitution; and, (9) replace FMP management objective 3 with: take regulatory action to increase catch per unit effort (CPUE) and reduce overcapitalization in terms of gear deployed in the fishery.

In accordance with the Magnuson-Stevens Act, NMFS is evaluating the proposed rule to implement Amendment 7 to determine whether it is consistent with Amendment 7, the Magnuson-Stevens Act, and other applicable law. If that determination is affirmative, NMFS will publish it in the Federal Register for public review and comment.

NMFS will consider comments received by June 17, 2002, whether specifically directed to the amendment or the proposed rule, in its decision to approve, disapprove, or partially approve Amendment 7. Comments received after that date will not be considered by NMFS in its decision. All comments received by NMFS on Amendment 7 or the proposed rule during their respective comment periods will be addres sed in the final rule.

Authority: 16 U.S.C. 1801 et seq.

Dated: April 12, 2002.
John H. Dunigan
Director, Office of Sustainable Fisheries, National Marine Fisheries Service.

[FR Doc. 02-9520 Filed 4-17-02; 8:45 am]

BILLING CODE 3510-22-S